FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011642-004.

Title: East Coast United States/East Coast of South America Vessel Sharing Agreement.

Parties: A.P. Moller-Maersk Sealand, P&O Nedlloyd Limited, P&O Nedlloyd B.V., Oceanica AGW Com. E Rep. Ltda., Compania Sud Americana de Vapores, S.A., Companhia Libra de Navegacao S.A., Alianca Navegacao e Logistica Ltda., Hamburg-Sud.

Synopsis: The proposed amendment: deletes Euroatlantic Container Line and Braztrans Transportes Maritimos Limitada as parties to the agreement; adds Companhia Libra de Navegacao S.A. as a party to the agreement; revises slot allocations; and reflects the various trade names used by certain parties.

Dated: January 12, 2001.
By Order of the Federal Maritime Commission.
Bryant L. VanBrakle,
Secretary.

[FR Doc. 01-1514 Filed 1-17-01; 8:45 am]

BILLING CODE 6730-01-P